DEPARTMENT OF THE INTERIOR

National Park Service

[NPS-WASO-NRSS-SSB-NPS0033118; PPWONRANDE2, PMP00E105.YP0000; OMB Control Number 1024-0224]

Agency Information Collection Activities; Programmatic Clearance for NPS-Sponsored Public Surveys

AGENCY: National Park Service, Interior.

ACTION: Notice of information collection; request for comment.

SUMMARY: In accordance with the Paperwork Reduction Act of 1995, we, the National Park Service (NPS) are proposing to renew an information collection with revisions.

DATES: Interested persons are invited to submit comments on or before April 11, 2022.

ADDRESSES: Written comments and suggestions on the information collection requirements should be submitted by the date specified above in DATES to http://www.reginfo.gov/public/do/PRAMain. Find this particular information collection by selecting “Currently under Review—Open for Public Comments” or by using the search function. Please provide a copy of your comments to the NPS Information Collection Clearance Officer (ADIR-ICCO), 12201 Sunrise Valley Drive, (MS-242) Reston, VA 20191 (mail); or phadrea_ponds@nps.gov (email). Please include “1024-0224” in the subject line of your comments.

FOR FURTHER INFORMATION CONTACT: To request additional information about this ICR by mail, contact Bret Meldrum, Chief, Social Science Program National Park Service, 1201 Oakridge Drive, Fort Collins, CO 80525; or by email at bret_meldrum@nps.gov. Please reference OMB Control Number 1024-0224 in the subject line of your comments. Individuals who are hearing or speech impaired may call the Federal Relay Service at 1-800-877-8339 for TTY assistance.

SUPPLEMENTARY INFORMATION: In accordance with the Paperwork Reduction Act of 1995, (PRA, 44 U.S.C. 3501 et seq.) and 5 CFR 1320.8(d)(1), all information collections require approval under the PRA. We may not conduct, or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The NPS is authorized by the National Park Service Protection, Interpretation, and Research in System (54 U.S.C. 100701) statutes to collect information used to enhance the management and planning of parks and their resources. The NPS Social Science Program (SSP) relies heavily on this generic approval to submit survey requests to OMB in an expedited manner. This process significantly streamlines the information collection process a manner that allows the NPS to submit at least 25 requests per year, which is 5 times as many requests that can be processed annually using the regular submission route.

The Programmatic Clearance applies to all NPS social science collections (e.g., questionnaires, focus groups, interviews, etc.) designed to furnish usable information to NPS managers and planners concerning visitor experiences, perceptions of services, programs, and planning efforts in areas managed by the NPS. To qualify for the NPS generic programmatic review process each information request must show clear ties to NPS management and planning needs in areas managed by the NPS or involve research that will directly benefit the NPS. The scope of the programmatic review process is limited to issues that are non-controversial or unlikely to attract significant public interest.

All collections must be reviewed by the NPS and approved by OMB before a collection is administered. At least 80% of the questions in an individual collection must be taken from the OMB approved Pool of Known Questions (PKQ). We acknowledge that the PKQ is not a comprehensive collection of all possible survey questions; therefore, we allow leeway for requestors to add park or research specific questions not in the PKQ. However, all questions must fit within the scope of the approved Topic Areas. The Social Science Program will continue to conduct necessary quality control and will submit each information collection request to OMB for expedited review before the collection is administered.

No changes to this information collection are anticipated at this time. However, the Program is submitting this as a “early renewal” and is designated as a “revision” in the FRN. The Post-Covid increase in the of number surveys received in 2021 exhausted the burden hours required for 2022. For this reason, the Program is requesting this “early renewal” (i.e., revision) to increase respondent burden hours needed to complete survey requests scheduled for Spring/Summer 2022.

Title of Collection: Programmatic Clearance for NPS-Sponsored Public Surveys.

OMB Control Number: 1024-0224.

Form Number: Form 10-201.

Type of Review: Revision of a currently approved collection.

Respondents/Affected Public: Individuals/Households.

Respondent's Obligation: Voluntary.

Frequency of Collection: On occasion.

Total Estimated Annual Nonhour Burden Cost: None.

Activity | Annual number of responses | Estimated completion time per response (minutes) | Total annual burden (hours)
On-site Surveys | 30,000 | 15 | 7,500
Mail-back surveys | 10,000 | 20 | 3,333
On-line surveys | 10,000 | 20 | 3,333
All non-response surveys | 10,000 | 3 | 500
Telephone Surveys | 5,000 | 30 | 2,500
Focus Groups/In person interviews/Video conferences | 2,500 | 60 | 2,500
Total | 67,500 |  | 19,666

An agency may not conduct, or sponsor and a person is not required to respond to a collection of information unless it displays a currently valid OMB control number. The authority for this action is the Paperwork Reduction Act of 1995 (44 U.S.C. 3501 et seq.).

Phadrea Ponds,
Information Collection Clearance Officer, National Park Service.

[FR Doc. 2022-02615 Filed 2-7-22; 8:45 am]

BILLING CODE 4312-52-P